DEPARTMENT OF STATE

[Public Notice: 12442]

Designation & Determination Pursuant to the Foreign Missions Act

Pursuant to the authority vested in the Secretary of State under the Foreign Missions Act, 22 U.S.C. 4301 et seq. (“the Act”), and delegated pursuant to Department of State Delegation of Authority No. 484 of May 26, 2020, and after due consideration of the benefits, privileges, and immunities provided to missions of the United States abroad, as well as matters related to the protection of the interests of the United States, I hereby designate the acquisition and reissuance of motor vehicle license plates which bear any of the following terms or words by members of foreign missions who are accredited by the Department of State as honorary consuls as a benefit as defined in 22 U.S.C. 4302(a)(1):

1. Consul;

2. Diplomat;

3. Envoy;

4. Foreign Mission Member;

5. Honorary Consul;

6. Consular Corps;

7. Foreign Consul;

8. Honorary Consular Officer; or

9. Any other words or terms that aim to describe or reference the individual's status as an honorary consul.

Additionally, I hereby determine it is reasonably necessary to achieve one or more of the purposes set forth in section 204(b) of the Act (22 U.S.C. 4304(b)), to prohibit the issuance or reissuance of such motor vehicle license plates by U.S. states, the District of Columbia, the Commonwealth of Puerto Rico, and the territories and possessions of the United States.

Clifton C. Seagroves,
Principal Deputy Director, Office of Foreign Missions, Department of State.

[FR Doc. 2024-14084 Filed 6-26-24; 8:45 am]

BILLING CODE 4710-43-P